DEPARTMENT OF COMMERCE

Foreign-Trade Zones Board

[B-1-2024]

Foreign-Trade Zone (FTZ) 297, Notification of Proposed Production Activity; Twin Disc, Inc.; (Power Transmission Products); Lufkin, Texas

Twin Disc, Inc. submitted a notification of proposed production activity to the FTZ Board (the Board) for its facility in Lufkin, Texas within Subzone 297A. The notification conforming to the requirements of the Board's regulations (15 CFR 400.22) was received on December 27, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include power take-offs, pump drives, clutches, and hydrojet engines for marine propulsion (duty rate ranges from duty-free to 2.8%).

The proposed foreign-status materials and components include: acrylic polymer seals; plastic plugs; rubber components (shaped blocks; nitrile O-rings and seals; air bladders); hydraulic hoses with fittings; paper tags; adhesive labels; owner manuals (printed; digital); clutch friction plates; alloy steel metal components (tubes; pipe fittings; pipe plugs; fasteners and fittings; nuts; washers; snap rings; rivets; cotter pins; freeze plugs; serrated lock washers); cast iron metal components (pipe fittings; tanks); metal components (screws; name plates; piston rings); various pins (Clevis; dowel; headed; roll; tapered); various springs (compression; torsion; wave); brass fittings and rivets; copper washers; Allen wrenches; hydrojet engine components (shafts; housings; caps; spacers; bushings; covers; anodes; retainers; fabricated tunnels); hydraulic pumps; pump parts; heat exchangers; hydraulic fluid filters; pressure reduction valves; valves; valve parts; various bearings (ball; tapered roller; spherical roller; needle; cylindrical roller); steel and roller balls; bearing cups and housings; transmission components (shafts; backplates; pressure plates; collars; yokes; brackets; drums; levers; links; sleeves; covers; drive rings; housings; adapters; keys; slingers; retainers; shims; spacers; locks); flywheels; shaft couplings; gears; marine propellers; flat panel displays; wiring harnesses; fluid level gauges; and, electronic sensors and control modules (duty rate ranges from duty-free to 9.9%). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is February 20, 2024.

A copy of the notification will be available for public inspection in the “Online FTZ Information System” section of the Board's website.

For further information, contact Juanita Chen at juanita.chen@trade.gov.

Dated: January 3, 2024.
Elizabeth Whiteman,
Executive Secretary.

[FR Doc. 2024-00202 Filed 1-8-24; 8:45 am]

BILLING CODE 3510-DS-P